OFFICE OF PERSONNEL MANAGEMENT

5 CFR Part 532

RIN 3206-AO49

Prevailing Rate Systems; Redefinition of Certain Appropriated Fund Federal Wage System Wage Areas

AGENCY: Office of Personnel Management.

ACTION: Proposed rule.

SUMMARY: The Office of Personnel Management (OPM) is proposing a rule to redefine the geographic boundaries of the following appropriated fund Federal Wage System (FWS) wage areas for pay-setting purposes: Hagerstown-Martinsburg-Chambersburg, MD; Richmond, VA; Roanoke, VA; and Washington, DC. The proposed rule would redefine the Shenandoah National Park portions of Albemarle, Augusta, Greene, Page, and Rockingham Counties, VA, to the Washington, DC, wage area. This change is based on a recent consensus recommendation of the Federal Prevailing Rate Advisory Committee (FPRAC).

DATES: Send comments on or before January 30, 2023.

ADDRESSES: You may submit comments, identified by docket number and/or Regulatory Information Number (RIN) and title, by the following method:

• Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Ana Paunoiu, by telephone at (202) 606-2858 or by email at pay-leave-policy@opm.gov.

SUPPLEMENTARY INFORMATION: OPM is proposing a rule to redefine the geographic boundaries of the following appropriated fund FWS wage areas: Hagerstown-Martinsburg-Chambersburg, MD; Richmond, VA; Roanoke, VA; and Washington, DC. This proposed rule would redefine the Shenandoah National Park portions of Albemarle, Augusta, Greene, Page, and Rockingham Counties, VA, to the Washington, DC, wage area. Shenandoah National Park would become consolidated under the Washington, DC, FWS wage area so that the installation would be defined to a single wage area. This change is based on a recent recommendation of FPRAC, the statutory national labor-management committee responsible for advising OPM on matters affecting the pay of FWS employees. From time to time, FPRAC reviews the boundaries of wage areas and provides OPM with recommendations for changes if the Committee finds that changes are warranted.

As provided by 5 CFR 532.211, this regulation allows consideration of the following criteria when defining wage area boundaries: distance, transportation facilities, and geographic features; commuting patterns; and similarities in overall population, employment, and the kinds and sizes of private industrial establishments.

The Shenandoah National Park (approximately 105 miles long) is currently split among four FWS areas. When the FWS was first established, most of Shenandoah National Park was in the Hagerstown-Martinsburg-Chambersburg wage area. Over time, as a result of changes in Office of Management and Budget defined metropolitan statistical areas, the wage area definitions for some counties that comprise the Shenandoah National Park have been changed by OPM based on recommendations of FPRAC.

Presently, portions of the Shenandoah National Park are defined to the Hagerstown-Martinsburg-Chambersburg, MD; Richmond, VA; Roanoke, VA; and Washington, DC, FWS wage areas as follows:

(1) The Shenandoah National Park portion of Albemarle and Greene Counties, VA, is defined to the Richmond wage area;

(2) The Shenandoah National Park portion of Augusta County, VA, is defined to the Roanoke wage area;

(3) The Shenandoah National Park portion of Madison, Rappahannock, and Warren Counties, VA, is defined to the Washington, DC, wage area; and

(4) The Shenandoah National Park portion of Page and Rockingham Counties, VA, is defined to the Hagerstown-Martinsburg-Chambersburg, MD, wage area.

Albemarle and Greene Counties, except for the Shenandoah National Park portions, continue to be appropriately defined to the Richmond, VA, wage area. Augusta County, except for the Shenandoah National Park portion, continues to be appropriately defined to the Roanoke, VA, wage area. Page and Rockingham Counties, except for the Shenandoah National Park portions, continue to be appropriately defined to the Hagerstown-Martinsburg-Chambersburg, MD, wage area. Madison, Rappahannock, and Warren Counties continue to be appropriately defined to the Washington, DC, wage area.

There are 14 FWS National Park Service (NPS) employees working in the Shenandoah National Park portion of Madison County and 17 FWS NPS employees working in the Shenandoah National Park portion of Page County. So that the FWS employees working at Shenandoah National Park are not split among four wage areas, OPM proposes that the Shenandoah National Park portions of Albemarle, Augusta, Greene, Page, and Rockingham Counties be redefined to the Washington, DC, wage area. Shenandoah National Park would then be entirely defined to the Washington, DC, wage area. This change would provide equal pay treatment for FWS employees working at Shenandoah National Park.

FPRAC, the national labor-management committee responsible for advising OPM on matters concerning the pay of FWS employees, recommended this change by consensus. This change would be effective on the first day of the first applicable pay period beginning on or after 30 days following publication of the final regulations.

Regulatory Impact Analysis

This action is not a “significant regulatory action” under the terms of Executive Order (E.O.) 12866 (58 FR 51735, October 4, 1993) and is therefore not subject to review under E.O. 12866 and 13563 (76 FR 3821, January 21, 2011).

Regulatory Flexibility Act

OPM certifies that this rule will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Stephen Hickman,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix C to subpart B amend the table by revising the wage area listings for the District of Columbia and the States of Maryland and Virginia to read as follows:

Appendix C to Subpart B of Part 532—Appropriated Fund Wage and Survey Areas

Definitions of Wage and Wage Survey Areas

* * * * *

District of Columbia

Washington, DC

Survey Area

District of Columbia:

Washington, DC

Maryland:

Charles

Frederick

Montgomery

Prince George's

Virginia (cities):

Alexandria

Fairfax

Falls Church

Manassas

Manassas Park

Virginia (counties):

Arlington

Fairfax

Loudoun

Prince William

Area of Application. Survey area plus:

Maryland:

Calvert

St. Mary's

Virginia (city):

Fredericksburg

Virginia (counties):

Albemarle (Only includes the Shenandoah National Park portion)

Augusta (Only includes the Shenandoah National Park portion)

Clarke

Culpeper

Fauquier

Greene (Only includes the Shenandoah National Park portion)

King George

Madison

Page (Only includes the Shenandoah National Park portion)

Rappahannock

Rockingham (Only includes the Shenandoah National Park portion)

Spotsylvania

Stafford

Warren

West Virginia:

Jefferson

* * * * *

Maryland

Baltimore

Survey Area

Maryland (city):

Baltimore

Maryland (counties):

Anne Arundel

Baltimore

Carroll

Harford

Howard

Area of Application. Survey area plus:

Maryland:

Queen Anne's

Hagerstown-Martinsburg-Chambersburg

Survey Area

Maryland:

Washington

Pennsylvania:

Franklin

West Virginia:

Berkeley

Area of Application. Survey area plus:

Maryland:

Allegany

Garrett

Pennsylvania:

Fulton

Virginia (cities):

Harrisonburg

Winchester

Virginia (counties):

Frederick

Page (Does not include the Shenandoah National Park portion)

Rockingham (Does not include the Shenandoah National Park portion)

Shenandoah

West Virginia:

Hampshire

Hardy

Mineral

Morgan

* * * * *

Virginia

Norfolk-Portsmouth-Newport News-Hampton

Survey Area

Virginia (cities):

Chesapeake

Hampton

Newport News

Norfolk

Poquoson

Portsmouth

Suffolk

Virginia Beach

Williamsburg

Virginia (counties):

Gloucester

James City

York

North Carolina:

Currituck

Area of Application. Survey area plus:

Virginia (city):

Franklin

Virginia (counties):

Accomack

Isle of Wight

Mathews

Northampton

Southampton

Surry

North Carolina:

Camden

Chowan

Gates

Pasquotank

Perquimans

Maryland:

Assateague Island part of Worcester

Richmond

Survey Area

Virginia (cities):

Colonial Heights

Hopewell

Petersburg

Richmond

Virginia (counties):

Charles City

Chesterfield

Dinwiddie

Goochland

Hanover

Henrico

New Kent

Powhatan

Prince George

Area of Application. Survey area plus:

Virginia (cities):

Charlottesville

Emporia

Virginia (counties):

Albemarle (Does not include the Shenandoah National Park portion)

Amelia

Brunswick

Buckingham

Caroline

Charlotte

Cumberland

Essex

Fluvanna

Greene (Does not include the Shenandoah National Park portion)

Greensville

King and Queen

King William

Lancaster

Louisa

Lunenberg

Mecklenburg

Middlesex

Nelson

Northumberland

Nottoway

Orange

Prince Edward

Richmond

Sussex

Westmoreland

Roanoke

Survey Area

Virginia (cities):

Radford

Roanoke

Salem

Virginia (counties):

Botetourt

Craig

Montgomery

Roanoke

Area of Application. Survey area plus:

Virginia (cities):

Bedford

Buena Vista

Clifton Forge

Covington

Danville

Galax

Lexington

Lynchburg

Martinsville

South Boston

Staunton

Waynesboro

Virginia (counties):

Alleghany

Amherst

Appomattox

Augusta (Does not include the Shenandoah National Park portion)

Bath

Bedford

Bland

Campbell

Carroll

Floyd

Franklin

Giles

Halifax

Henry

Patrick

Pittsburgh

Pulaski

Rockbridge

Wythe

* * * * *

[FR Doc. 2022-28318 Filed 12-29-22; 8:45 am]

BILLING CODE 6325-39-P